DEPARTMENT OF COMMERCE

National Oceanic and Atmospheric Administration

[I.D. 050506C]

New England Fishery Management Council; Public Meeting

AGENCY: National Marine Fisheries Service (NMFS), National Oceanic and Atmospheric Administration (NOAA), Commerce

ACTION: Notice of a public meeting.

SUMMARY: The New England Fishery Management Council (Council) is scheduling a public meeting of its Research Steering Committee in May, 2006 to consider actions affecting New England fisheries in the exclusive economic zone (EEZ). Recommendations from this group will be brought to the full Council for formal consideration and action, if appropriate.

DATES: This meeting will be held on Tuesday, May 30, 2006, at 10:30 a.m. and Wednesday, May 31, 2006, at 8:30 a.m.

ADDRESSES: This meeting will be held at the Sheraton Harborside Hotel, 250 Market Street, Portsmouth, NH 03801: telephone: (603) 431-2300; fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will develop management reviews for a number of cooperative research project, that have been approved by NOAA Fisheries Northeast Cooperative Research Partners Program (NCRPP). Their conclusions will be presented to the full Council at its June 13-15, 2006 meeting in Newport, RI. In addition to an NCRPP update, the committee will also receive a report on staff follow-up activities since the last meeting and discuss further refinements to its management review process. The committee will also review its involvement in the Council's research set-aside programs.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 9, 2006.
Tracey L. Thompson,
Acting Director, Office of Sustainable Fisheries, National Marine Fisheries Service.

[FR Doc. E6-7310 Filed 5-12-06; 8:45 am]

BILLING CODE 3510-22-S